DEPARTMENT OF LABOR

Employment and Training Administration

[TA-W-73,503]

Compass Group USA, Inc., Canteen, Webster City, Iowa; Notice of Negative Determination on Reconsideration

On September 21, 2010, the Department of Labor issued an Affirmative Determination Regarding Application for Reconsideration for the workers and former workers of the subject firm. The notice was published in the Federal Register on September 29, 2010 (75 FR 60139).

The initial investigation resulted in a negative determination based on the finding that the subject firm did not, during the investigation period, shift to a foreign country services like or directly competitive with the cafeteria services or vending machine services supplied by the workers or acquire from a foreign country services like or directly competitive with the cafeteria services or vending machine services supplied by the workers; that the workers' separation, or threat of separation, was not related to any increase in imports of like or directly competitive food services or a shift in service/acquisition of such food services abroad; and that the workers did not supply a service that was directly used in the production of an article or the supply of service by a firm that employed a worker group that is eligible to apply for TAA based on the afore-mentioned article or service.

In the request for reconsideration, the petitioner stated that the workers of the subject firm were service workers who provided food services to employees of Electrolux Home Products, Inc., Electrolux Major Appliances Division, Webster City, Iowa, who have been certified eligible for Trade Adjustment Assistance (TA-W-70,123, signed June 25, 2009). The petitioner went on to assert that the situation of the Compass Group workers was the same as that of employees of Premier Manufacturing Support Services, a services provider to General Motors, Spring Hill, Tennessee, who were certified eligible to apply for TAA on March 12, 2010 (TA-W-72,379).

The difference in the outcome of the two cases results from the difference in the companies' relationships to the production processes at the respective Electrolux and General Motors plants. The workers of Premier Manufacturing Support Services provided services (janitorial, maintenance, and hazardous waste disposal) that were directly involved in the production process at General Motors, Spring Hill, Tennessee. In contrast, the workers of the subject firm provided services (cafeteria services and vending machine services) that are not directly involved in the production process at Electrolux Home Products, Inc., Electrolux Major Appliances Division, Webster City, Iowa.

During the course of the reconsideration investigation this office inquired into the relationship between Electrolux and the subject firm. It was determined that Electrolux exercised no day-to-day operational control over the employees of the subject firm. Consequently, the workers cannot be considered employees of Electrolux, but only of the subject firm, Compass Group USA.

Furthermore, it should be noted that employees of American Food and Vending, Spring Hill, Tennessee, who provided food services to employees at that same General Motors plant in Spring Hill, Tennessee, were denied TAA certification (TA-W-72,606, signed March 19, 2010).

In the request for reconsideration, the petitioner also asserted that the decision in the subject case is “contrary to the intent of the U.S. Congress in light of the changes [regarding service providers] it made to trade adjustment assistance by passage of the Trade Globalization Adjustment Assistance Act of 2009” and that in making those changes “one can only conclude that the U.S. Congress intended a broad interpretation” of the phrase “service used in the production of articles or in the supply of service, * * *.”

This office does not find that argument compelling and is not prepared to certify the workers in this case on the basis of the broad reading of the law given by the petitioner.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After reconsideration, I affirm the original notice of negative determination of eligibility to apply for worker adjustment assistance for workers and former workers of Compass Group USA, Inc., Canteen, Webster City, Iowa.

Signed at Washington, DC, this 22nd day of October 2010.
Elliott S. Kushner,
Certifying Officer, Office of Trade Adjustment Assistance.

[FR Doc. 2010-27760 Filed 11-2-10; 8:45 am]

BILLING CODE 4510-FN-P